DEPARTMENT OF ENERGY

[Case Number 2022-001, EERE-2017-BT-WAV-0041]

Energy Conservation Program: Extension of Waiver to AHT Cooling Systems GmbH and AHT Cooling Systems USA Inc. From the Department of Energy Commercial Refrigerator, Freezer, and Refrigerator-Freezer Test Procedure

AGENCY: Office of Energy Efficiency and Renewable Energy, Department of Energy.

ACTION: Notice of decision and order: Extension of waiver.

SUMMARY: The U.S. Department of Energy (“DOE”) gives notice of a Decision and Order (Case No. 2022-001) that grants AHT Cooling Systems GmbH and AHT Cooling Systems USA Inc. (“AHT”) a waiver extension from specified portions of the DOE Commercial Refrigerators, Freezers, and Refrigerator-Freezers (collectively “commercial refrigeration equipment” or “CRE”) test procedure for determining the energy consumption of the specified AHT CRE basic models. AHT is required to test and rate the specified basic models in accordance with the alternate test procedure specified in this Decision and Order.

DATES: The Decision and Order is effective on April 11, 2022. The Decision and Order will terminate upon the compliance date of any future amendment to the test procedure for CRE located in 10 CFR part 431, subpart C, appendix B that addresses the issues presented in this waiver. At such time, AHT must use the relevant test procedure for the specified basic models of CRE for any testing to demonstrate compliance with standards, and any other representations of energy use.

FOR FURTHER INFORMATION CONTACT:

Ms. Julia Hegarty, U.S. Department of Energy, Office of Energy Efficiency and Renewable Energy, Building Technologies Office, EE-5B, 1000 Independence Avenue SW, Washington, DC 20585-0121. Email: AS_Waiver_Requests@ee.doe.gov.

Mr. Pete Cochran, U.S. Department of Energy, Office of the General Counsel, Mail Stop GC-33, Forrestal Building, 1000 Independence Avenue SW, Washington, DC 20585-0103. Telephone: (202) 586-9496. Email: peter.cochran@hq.doe.gov.

SUPPLEMENTARY INFORMATION: In accordance with Title 10 of the Code of Federal Regulations (10 CFR 431.401(g)), DOE gives notice of the Decision and Order as set forth below. The Decision and Order extends the waiver that was granted to AHT on October 30, 2018 (83 FR 54581, “October 2018 Decision and Order”) to include the AHT basic models specified in this waiver, as requested by AHT on January 20, 2022.¹ AHT must test and rate the specifically identified CRE basic models in accordance with the alternate test procedure specified in the Decision and Order. AHT's representations concerning the energy consumption of the specified basic models must be based on testing according to the provisions and restrictions in the alternate test procedure set forth in the Decision and Order, and the representations must fairly disclose the test results. Distributors, retailers, and private labelers are held to the same requirements when making representations regarding the energy consumption of this equipment. (42 U.S.C. 6314(d))

¹ AHT's request is available at https://www.regulations.gov/docket?D=EERE-2017-BT-WAV-0041. The specified basic models are: IBIZA 145 (U) NAM1-F, IBIZA 210 (U) NAM1-F, MALTA 185 (U) NAM1-F, MANHATTAN XL 210 (U) NAM1-F, MIAMI 210 (U) NAM1-F, MIAMI 250 (U) NAM1-F, MIAMI XL EC 185 (U) NAM1-F, PARIS 210 (U) NAM1-F, PARIS EC 185 (U) NAM1-F, SYDNEY EC 223 (U) NAM1-F, SYDNEY XL 210 (U) NAM1-F.

DOE makes decisions on waiver extensions for only those basic models specifically set out in the request, not future models that may be manufactured by the petitioner. AHT may submit a new or amended petition for waiver and request for grant of interim waiver, as appropriate, for additional basic models of CRE. Alternatively, if appropriate, AHT may request that DOE extend the scope of a waiver to include additional basic models employing the same technology as the basic models set forth in the original petition consistent with 10 CFR 431.401(g).

Case Number 2020-025

Extension of Waiver

I. Background and Authority

The Energy Policy and Conservation Act, as amended (“EPCA”),¹ authorizes DOE to regulate the energy efficiency of a number of consumer products and certain industrial equipment. (42 U.S.C. 6291-6317) Title III, Part C ² of EPCA established the Energy Conservation Program for Certain Industrial Equipment, which sets forth a variety of provisions designed to improve energy efficiency for certain types of industrial equipment. This equipment includes Commercial Refrigerators, Freezers, and Refrigerator-Freezers (collectively “commercial refrigeration equipment” or “CRE”), the focus of this document. (42 U.S.C. 6311(1)(E))

¹ All references to EPCA in this document refer to the statute as amended through the Infrastructure Investment and Jobs Act, Public Law 117-58 (Nov. 15, 2021).

² For editorial reasons, upon codification in the U.S. Code, Part C was redesignated as Part A-1.

Under 42 U.S.C. 6314, EPCA sets forth the criteria and procedures DOE is required to follow when prescribing or amending test procedures for covered equipment. EPCA requires that any test procedures prescribed or amended under this section must be reasonably designed to produce test results which reflect the energy efficiency, energy use or estimated annual operating cost of covered equipment during a representative average use cycle and requires that test procedures not be unduly burdensome to conduct. (42 U.S.C. 6314(a)(2)) The test procedure for CRE is contained in 10 CFR part 431, subpart C, appendix B—Amended Uniform Test Method for the Measurement of Energy Consumption of Commercial Refrigerators, Freezers, and Refrigerator-Freezers (“Appendix B”).

Any interested person may submit a petition for waiver from DOE's test procedure requirements. 10 CFR 431.401(a)(1). DOE will grant a waiver from the test procedure requirements if DOE determines either that the basic model for which the waiver was requested contains a design characteristic that prevents testing of the basic model according to the prescribed test procedures, or that the prescribed test procedures evaluate the basic model in a manner so unrepresentative of its true energy or water consumption characteristics as to provide materially inaccurate comparative data. 10 CFR 431.401(f)(2). DOE may grant the waiver subject to conditions, including adherence to alternate test procedures. Id.

A petitioner may request that DOE extend the scope of a waiver or an interim waiver to include additional basic models employing the same technology as the basic model(s) set forth in the original petition. 10 CFR 431.401(g). DOE will publish any such extension in the Federal Register. Id.

II. Request for an Extension of Waiver: Assertions and Determinations

On October 30, 2018, DOE issued a Decision and Order in Case Number 2017-007 granting AHT a waiver to test its AHT basic models specified in that Order using an alternate test procedure. 83 FR 54581 (“October 2018 Decision and Order”). AHT stated that the basic models listed in the petition do not have a defrost cycle when operated in freezer mode, and therefore cannot be tested under Appendix B, which references defrosts for the start of the test period and door-opening period.

Based on its review, including the information provided by AHT, DOE determined that the CRE basic models specified in the October 2018 Decision and Order contain a design characteristic that prevents testing the basic models according to the prescribed test procedure at Appendix B. 83 FR 54581, 54582. The October 2018 Decision and Order specifies that AHT must test and rate the subject basic models according to Appendix B, but with the test period starting after the unit achieves steady state conditions and the door-opening period starting 3 hours after the start of the test period. Id at 83 FR 54583.

On January 20, 2022, AHT submitted a request to extend the scope of the waiver, Case Number 2022-001, to specified additional AHT basic models.³ AHT stated that these basic models have the same characteristics as the models covered by the existing waiver.

³ The specified basic models are: IBIZA 145 (U) NAM1-F, IBIZA 210 (U) NAM1-F, MALTA 185 (U) NAM1-F, MANHATTAN XL 210 (U) NAM1-F, MIAMI 210 (U) NAM1-F, MIAMI 250 (U) NAM1-F, MIAMI XL EC 185 (U) NAM1-F, PARIS 210 (U) NAM1-F, PARIS EC 185 (U) NAM1-F, SYDNEY EC 223 (U) NAM1-F, SYDNEY XL 210 (U) NAM1-F.

DOE has reviewed AHT's waiver extension request and operating instructions for the subject basic models and determined that the CRE basic models identified in AHT's request incorporate the same design characteristics as those basic models covered under the waiver in Case Number 2017-007 (i.e., lack of defrost cycle when operated in freezer mode), which prevents testing the basic models according to the prescribed test procedure at Appendix B. DOE also determined that the alternate procedure specified in Case Number 2017-007 will allow for the accurate measurement of the energy use of the CRE basic models identified by AHT in its waiver extension request, while alleviating the testing problems associated with AHT's implementation of DOE's applicable commercial refrigeration equipment test procedure for the specified basic models.

III. Order

After careful consideration of all the material submitted by AHT in this matter, it is ordered that:

(1) AHT must, as of the date of publication of this Extension of Waiver in the Federal Register, test and rate the following AHT brand commercial freezer basic models (which do not have defrost cycle capability when operated in freezer mode) with the alternate test procedure as set forth in paragraph (2):

Brand | Basic model
AHT | IBIZA 145 (U) NAM1-F.
AHT | IBIZA 210 (U) NAM1-F.
AHT | MALTA 185 (U) NAM1-F.
AHT | MANHATTAN XL 210 (U) NAM1-F.
AHT | MIAMI 210 (U) NAM1-F.
AHT | MIAMI 250 (U) NAM1-F.
AHT | MIAMI XL EC 185 (U) NAM1-F.
AHT | PARIS 210 (U) NAM1-F.
AHT | PARIS EC 185 (U) NAM1-F.
AHT | SYDNEY EC 223 (U) NAM1-F.
AHT | SYDNEY XL 210 (U) NAM1-F.

(2) The alternate test procedure for the AHT basic models referenced in paragraph (1) of this Order is the test procedure for CRE prescribed by DOE at 10 CFR part 431, subpart C, appendix B, except that the test period shall be selected as detailed below. All other requirements of Appendix B and DOE's regulations remain applicable.

The test shall begin when steady state conditions occur (per ASHRAE Standard 72-2005, Section 3, definitions, which defines steady state as “the condition where the average temperature of all test simulators changes less than 0.2 °C (0.4 °F) from one 24-hour period or refrigeration cycle to the next”). Additionally, the door-opening requirements shall be as defined in ASHRAE 72-2005 Section 7.2, with the exception that the eight-hour period of door openings shall begin three hours after the start of the test. Ambient temperature, test simulator temperatures, and all other data shall be recorded at three-minute intervals beginning at the start of the test and throughout the 24-hour testing period.

(3) Representations. AHT may not make representations about the energy use of a basic model listed in paragraph (1) of this Order for compliance, marketing, or other purposes unless that basic model has been tested in accordance with the provisions of paragraph (2) of this Order and such representations fairly disclose the results of such testing.

(4) This Extension of Waiver shall remain in effect according to the provisions of 10 CFR 431.401.

(5) This Extension of Waiver is issued on the condition that the statements, representations, and documentation provided by AHT are valid. If AHT makes any modifications to the controls or capabilities (e.g., adding automatic defrost to freezer mode) of these basic models, the waiver will no longer be valid and AHT will either be required to use the current Federal test method or submit a new application for a test procedure waiver. DOE may rescind or modify this Extension of Waiver (and/or the underlying Order issued in Case Number 2017-007) at any time if it determines the factual basis underlying the petition for extension of waiver (and/or the underlying Order issued in Case Number 2017-007) is incorrect, or the results from the alternate test procedure are unrepresentative of a basic model's true energy consumption characteristics. 10 CFR 431.401(k)(1). Likewise, AHT may request that DOE rescind or modify the Extension of Waiver (and/or the underlying Order issued in Case Number 2017-007) if AHT discovers an error in the information provided to DOE as part of its petition, determines that the waiver is no longer needed, or for other appropriate reasons. 10 CFR 431.401(k)(2).

(6) AHT remains obligated to fulfill all applicable requirements set forth at 10 CFR part 429.

Signing Authority

This document of the Department of Energy was signed on April 5, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 6, 2022.
Treena V. Garrett,
Federal Register Liaison Officer, U.S. Department of Energy.

[FR Doc. 2022-07668 Filed 4-8-22; 8:45 am]

BILLING CODE 6450-01-P